DEPARTMENT OF ENERGY

Federal Energy Regulatory Commission

[Project No. 1494]

Grand River Dam Authority; Notice of Project Visit

April 23, 2002.

Take notice that Commission staff will be visiting the Pensacola Project (FERC No. 1494) on Wednesday, May 1, 2002. The primary purpose of the project visit is to observe existing land use and environmental resource conditions at the site for the proposed expansion of Arrowhead Marina on the Duck Creek arm of Grand Lake O' The Cherokees. Commission staff also will be observing existing site conditions at other locations on Duck Creek that are associated with other pending Commission proceedings involving non-project uses and occupancies of project lands and waters. You may accompany staff during the project visit.

The project visit will begin at 9:00 a.m. at the Arrowhead Marina, located off State Route 85 in Delaware County near Ketchum, Oklahoma. Other Duck Creek areas will be visited during the day on a priority basis and as time allows. All participants are expected to provide their own means of transportation.

If you have any questions concerning this project visit, please contact Steve Naugle at (202) 219-2805.

Magalie R. Salas,
Secretary.

[FR Doc. 02-10441 Filed 4-26-02; 8:45 am]

BILLING CODE 6717-01-P